SECURITIES AND EXCHANGE COMMISSION

[File No. 500-1]

In the Matter of Spriza, Inc.; Order of Suspension of Trading

March 4, 2015.

It appears to the Securities and Exchange Commission that there is a lack of current and accurate information concerning the securities of Spriza, Inc. because of questions regarding the accuracy of assertions by Spriza, Inc., including assertions regarding business relationships in a company press release dated February 6, 2015, a Form 8-K and in a video created by the company. Spriza, Inc. is a Nevada corporation with its principal place of business located in El Segundo, California.

The Commission is of the opinion that the public interest and the protection of investors require a suspension of trading in the securities of the above-listed company.

Therefore, it is ordered, pursuant to Section 12(k) of the Securities Exchange Act of 1934, that trading in the securities of the above-listed company is suspended for the period commencing at 9:30 a.m. EST, on March 4, 2015 and terminating at 11:59 p.m. EDT, on March 17, 2015.

By the Commission.
Jill M. Peterson,
Assistant Secretary.

[FR Doc. 2015-05373 Filed 3-4-15; 4:15 pm]

BILLING CODE 8011-01-P